DEPARTMENT OF ENERGY

Federal Energy Regulatory Commission

[Project No. 2821-014]

City of Portland; Notice of Intent To File License Application, Filing of Pre-Application Document (PAD), Commencement of ILP Pre-Filing Process, and Scoping; Request for Comments on the PAD and Scoping Document, and Identification of Issues and Associated Study Requests

a. Type of Filing: Notice of Intent to File License Application for a New License and Commencing Pre-filing Licensing Process.

b. Project No.: 2821-014.

c. Dated Filed: December 8, 2023.

d. Submitted By: City of Portland, Portland Water Bureau.

e. Name of Project: Portland Hydroelectric Project.

f. Location: The project is located on the Bull Run River in Clackamas and Multnomah counties, Oregon, approximately 26 miles east of the City of Portland. The project boundary does not include any Federal lands since a land exchange with the U.S. Forest Service was completed in 2022.¹

¹ On November 8, 2023, the City filed an application to amend the current license to revise Federal lands within the project boundary.

g. Filed Pursuant to: 18 CFR part 5 of the Commission's regulations.

h. Applicant Contact: Ms. Shannon Mills, Portland Water Bureau; 1120 SW 5th Avenue, Room 405, Portland, OR 97204; phone: (971) 347-9870.

i. FERC Contact: Golbahar Mirhosseini, (202) 502-6820 golbahar.mirhosseini@ferc.gov.

j. Cooperating agencies: Federal, State, local, and Tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service and NOAA Fisheries under section 7 of the Endangered Species Act and the joint agency regulations thereunder at 50 CFR part 402; (b) NOAA Fisheries under section 305(b) of the Magnuson-Stevens Fishery Conservation and Management Act and implementing regulations at 50 CFR 600.920; and (c) the Oregon State Historic Preservation Officer, as required by section 106, National Historic Preservation Act, and the implementing regulations of the Advisory Council on Historic Preservation at 36 CFR 800.2.

l. By letters dated January 2, 2024, and January 17, 2024, we notified the U.S. Fish and Wildlife Service, NOAA Fisheries, and the Oregon State Historic Preservation Officer that we are designating the City of Portland as the Commission's non-federal representative for carrying out informal consultation pursuant to section 7 of the Endangered Species Act, section 305(b) of the Magnuson-Stevens Fishery Conservation and Management Act, and section 106 of the National Historic Preservation Act.

m. A copy of the PAD is available for review on the Commission's website (http://www.ferc.gov), using the “eLibrary” link. Enter the docket number, excluding the last three digits in the docket number field to access the document. For assistance, contact FERC Online Support at FERCOnlineSupport@ferc.gov, (866) 208-3676 (toll free), or (202) 502-8659 (TTY). A copy is also available via the contact in paragraph h.

You may register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595, or at OPP@ferc.gov.

n. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online. In lieu of electronic filing, you may submit a paper copy. Submissions sent via the U.S. Postal Service must be addressed to: Debbie-Anne A. Reese, Deputy Secretary, Federal Energy Regulatory Commission, 888 First Street NE, Room 1A, Washington, DC 20426. Submissions sent via any other carrier must be addressed to: Debbie-Anne A. Reese, Deputy Secretary, Federal Energy Regulatory Commission, 12225 Wilkins Avenue, Rockville, Maryland 20852. All filings must clearly identify the project name and docket number on the first page: Portland Hydroelectric Project (P-2821-014).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by April 6, 2024.

o. Scoping Process:

In accordance with the National Environmental Policy Act (NEPA), Commission staff will prepare either an environmental assessment (EA) or an environmental impact statement (EIS) (collectively referred to as the “NEPA document”). The NEPA document will consider both site-specific and cumulative environmental effects, and reasonable alternatives to the proposed action. The Commission's scoping process will help determine the required level of analysis and satisfy the NEPA scoping requirements, irrespective of whether the Commission prepares an environmental assessment or Environmental Impact Statement.

Scoping Meetings

Commission staff will hold two scoping meetings for the project to receive input on the scope of the NEPA document. An evening meeting will focus on receiving input from the public and a daytime meeting will focus on concerns of resource agencies, Native American tribes, and non-governmental organizations (NGO). We invite all interested agencies, Native American tribes, NGOs, and the public to attend one or both meetings to assist us in identifying the scope of environmental issues that should be analyzed in the NEPA document. The dates and times of the virtual scoping meetings are listed below.

Evening meeting for the general public

Tuesday, February 27, 2024

Starting Time: 6:30 p.m. Pacific Standard Time (PST)

Location: Portland Water Bureau, Interstate Facility Auditorium, 664 N. Tillamook Street, Portland, OR 97227

Phone Number: (971) 347-9870

Daytime meeting for resource agencies, Tribes, and NGOs

Wednesday, February 28, 2024

Starting Time: 10:00 a.m. PST

Location: Portland Building, 1120 SW 5th Avenue, Room 108, Portland, OR 97204

Phone Number: (971) 347-9870

Copies of SD1, outlining the subject areas to be addressed in the environmental document, was mailed to the individuals and entities on the Commission's mailing list and City of Portland's PAD distribution list. Copies of SD1 may be viewed on the web at http://www.ferc.gov, using the “eLibrary” link. Follow the directions for accessing information in paragraph m. Based on all oral and written comments, a Scoping Document 2 (SD2) may be issued. SD2 may include a revised process plan and schedule, as well as a list of issues, identified through the scoping process.

Environmental Site Visit

City of Portland and Commission staff will hold an environmental site visit of the Portland Hydroelectric Project on Tuesday, February 27, 2024, 10 a.m. to 1:30 p.m. PST. You must register in advance if you are interested in attending a site visit. Please contact Ms. Shannon Mills by email at HydroelectricProject@portlandoregon.gov, or by phone at 971-347-9870 before Tuesday February 20, 2024, if you plan to attend the environmental site review. Please note that inclement weather may necessitate a virtual tour instead of an in-person site visit.

Meeting Objectives

At the scoping meetings, Commission staff will: (1) initiate scoping of the issues; (2) review and discuss existing conditions; (3) review and discuss existing information and identify preliminary information and study needs; (4) review and discuss the process plan and schedule for pre-filing activity that incorporates the time frames provided for in Part 5 of the Commission's regulations and, to the extent possible, maximizes coordination of Federal, State, and Tribal permitting and certification processes; and (5) discuss the potential of any Federal or State agency or Native American tribe to act as a cooperating agency for development of an environmental document. Meeting participants should come prepared to discuss their issues and/or concerns. Please review City of Portland's PAD in preparation for the scoping meetings. Directions on how to obtain a copy of the PAD and SD1 are included in item m of this document.

Meeting Procedures

The scoping meetings will be recorded by a court reporter, and all statements will become part of the Commission's public record for the project.

Agencies, Native American Tribes, NGOs, and individuals with environmental expertise and concerns are encouraged to attend the meetings and to assist Commission staff in defining and clarifying the issues to be addressed in the NEPA document.

Dated: February 2, 2024.
Debbie-Anne A. Reese,
Acting Secretary.

[FR Doc. 2024-02717 Filed 2-8-24; 8:45 am]

BILLING CODE 6717-01-P